DEPARTMENT OF ENERGY

Federal Energy Regulatory Commission

[Docket No. EL11-30-000]

E.ON Climate & RenewablesNorth America, LLC, et al. v. Midwest Independent Transmission System Operator, Inc.; Notice of Complaint

Take notice that on March 22, 2011, The Midwest Generation Development Group, an ad hoc coalition comprised of Clipper Windpower Development Co., Inc., E.ON Climate & Renewables North America, LLC, Horizon Wind Energy LLC, Iberdrola Renewables, Inc. and Invenergy Wind Development LLC and Invenergy Thermal Development LLC (Complainants), pursuant to Rule 206 of the Rules of Practice and Procedure of the Federal Energy Regulatory Commission (Commission), 18 CFR 385.206 (2010) and section 206 of the Federal Power Act (FPA), 16 U.S.C. 824e, filed a formal complaint against the Midwest Independent Transmission System Operator, Inc. (Midwest ISO or Respondent), requesting that the Commission find Option I under Attachment FF of the Midwest ISO Open Access Transmission, Energy and Operating Reserve Markets Tariff is unjust, unreasonable, unduly discriminatory and preferential in violation of the FPA as it pertains to network upgrades initially funded and financed by an interconnection customer through the Midwest ISO's Generation Interconnection Procedures and order the Midwest ISO to remove Option I from its Tariff effective March 22, 2011.

Complainants certify that copies of the complaint have been served on the contacts for the Midwest ISO as listed on the Commission's list of Corporate Officials.

Any person desiring to intervene or to protest this filing must file in accordance with Rules 211 and 214 of the Commission's Rules of Practice and Procedure (18 CFR 385.211, 385.214). Protests will be considered by the Commission in determining the appropriate action to be taken, but will not serve to make protestants parties to the proceeding. Any person wishing to become a party must file a notice of intervention or motion to intervene, as appropriate. The Respondent's answer and all interventions, or protests must be filed on or before the comment date. The Respondent's answer, motions to intervene, and protests must be served on the Complainants.

The Commission encourages electronic submission of protests and interventions in lieu of paper using the “eFiling” link at http://www.ferc.gov. Persons unable to file electronically should submit an original and 14 copies of the protest or intervention to the Federal Energy Regulatory Commission, 888 First Street, NE., Washington, DC 20426.

This filing is accessible on-line at http://www.ferc.gov, using the “eLibrary” link and is available for review in the Commission's Public Reference Room in Washington, DC. There is an “eSubscription” link on the Web site that enables subscribers to receive e-mail notification when a document is added to a subscribed docket(s). For assistance with any FERC Online service, please e-mail FERCOnlineSupport@ferc.gov, or call (866) 208-3676 (toll free). For TTY, call (202) 502-8659.

Comment Date: 5 p.m. Eastern Time on April 11, 2011.

Dated: March 24, 2011.
Kimberly D. Bose,
Secretary.

[FR Doc. 2011-7679 Filed 3-31-11; 8:45 am]

BILLING CODE 6717-01-P